SECURITIES AND EXCHANGE COMMISSION

[Release No. 34-67063; File No. SR-FINRA-2012-021]

Self-Regulatory Organizations; Financial Industry Regulatory Authority, Inc.; Notice of Designation of a Longer Period for Commission Action on Proposed Rule Change Relating to Post-Trade Transparency for Agency Pass-Through Mortgage-Backed Securities Traded in Specified Pool Transactions and SBA-Backed Asset-Backed Securities Transactions

May 25, 2012.

On April 2, 2012, the Financial Industry Regulatory Authority, Inc. (“FINRA”) filed with the Securities and Exchange Commission (the “Commission”), pursuant to Section 19(b)(1) of the Securities Exchange Act of 1934 (the “Act”) ¹ and Rule 19b-4 thereunder,² a proposed rule change related to post-trade transparency for Agency Pass-Through Mortgage-Backed Securities traded in Specified Pool Transactions (“MBS SPT”) and Asset-Backed Securities backed by loans guaranteed as to principal and interest by the Small Business Administration and traded either in Specified Pool Transactions or To Be Announced (“SBA-Backed ABS”). The proposed rule change was published for comment in the Federal Register on April 19, 2012.³ The Commission received two comment letters on the proposal.⁴

¹ 15 U.S.C. 78s(b)(1).

² 17 CFR 240.19b4.

³ Securities Exchange Act Release No. 66804 (April 13, 2012), 77 FR 23524 (April 19, 2012).

⁴ See letter from Chris Killian, Managing Director, Securities Industry and Financial Markets Association, to Elizabeth M. Murphy, Secretary, Commission, dated May 10, 2012; letter from Michael Nicholas, Chief Executive Officer, Bond Dealers of America, to Elizabeth M. Murphy, Secretary, Commission, dated May 10, 2012.

Section 19(b)(2) of the Act ⁵ provides that, within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day for this filing is June 3, 2012. The Commission is extending this 45-day time period.

⁵ 15 U.S.C. 78s(b)(2).

The Commission finds that it is appropriate to designate a longer period within which to take action on the proposed rule change so that it has sufficient time to consider the proposed rule change, the comments received, and any response to the comments submitted by FINRA. The proposed rule change would, among other things, provide for post-trade transparency of MBS SPT and SBA-Backed ABS transactions that are reported to the Trade Reporting and Compliance Engine (“TRACE”).

Accordingly, the Commission, pursuant to Section 19(b)(2) of the Act,⁶ designates July 18, 2012, as the date by which the Commission should either approve or disapprove or institute proceedings to determine whether to disapprove the proposed rule change.

⁶ 15 U.S.C. 78s(b)(2).

For the Commission, by the Division of Trading and Markets, pursuant to delegated authority.⁷

⁷ 17 CFR 200.30-3(a)(31).

Kevin M. O'Neill,
Deputy Secretary.

[FR Doc. 2012-13254 Filed 5-31-12; 8:45 am]

BILLING CODE 8011-01-P